DEPARTMENT OF COMMERCE

Patent and Trademark Office

[Docket No. 2004-C-048]

Performance Review Board (PRB)

AGENCY: United States Patent and Trademark Office, Commerce.

ACTION: Notice; Update membership list of the United States Patent and Trademark Office Performance Review Board.

SUMMARY: In conformance with the Civil Service Reform Act of 1978, 5 U.S.C. 4314(c)(4), the United States Patent and Trademark Office announces the appointment of persons to serve as members of its Performance Review Board.

ADDRESSES: Operations Manager, Office of Human Resources, United States Patent and Trademark Office, PO Box 1450, Alexandria, VA 22313-1450.

FOR FURTHER INFORMATION CONTACT: Valencia Martin-Wallace at (703) 305-8062.

SUPPLEMENTARY INFORMATION: The membership of the United States Patent and Trademark Office Performance Review Board is as follows:

Stephen M. Pinkos, Chair, Deputy Under Secretary of Commerce for Intellectual Property and Deputy Director of the United States Patent and Trademark Office, United States Patent and Trademark Office, P.O. Box 1450, Alexandria, VA 2213-1450, Term expires September 30, 2006

Jo-Anne D. Barnard, Vice Chair, Chief Financial Officer and Chief Administrative Officer, United States Patent and Trademark Office, P.O. Box 1450, Alexandria, VA 22313-1450, Term expires September 30, 2005

Nicholas Godici, Commissioner for Patents, United States Patent and Trademark Office, P.O. Box 1450, Alexandria, VA 22313-1450, Term expires September 30, 2005

Lynne Beresford, Deputy Commissioner for Trademark Policy, United States Patent and Trademark Office, P.O. Box 1450, Alexandria, VA 22313-1450, Term expires September 30, 2005

Ronald Hack, Acting Chief Information Officer, United States Patent and Trademark Office, P.O. Box 1450, Alexandria, VA 22313-1450, Term expires September 30, 2005

James Toupin, General Counsel, United States Patent and Trademark Office, P.O. Box 1450, Alexandria, VA 22313-1450, Term expires September 30, 2006

Lois E. Boland, Director of International Relations, United States Patent and Trademark Office, P.O. Box 1450, Alexandria, VA 22313-1450, Term expires September 30, 2005

Andrew B. Maner, Chief Financial Officer, Department of Homeland Security, 301-7th Street, SW., Room 4905, Washington, DC 20528, Term expires September 30, 2006

Dated: October 29, 2004.
Jon W. Dudas,
Under Secretary of Commerce for Intellectual Property and Director of the United States Patent and Trademark Office.

[FR Doc. 04-24554 Filed 11-2-04; 8:45 am]

BILLING CODE 3510-16-P